DEPARTMENT OF AGRICULTURE

Rural Housing Service

7 CFR Chapters XVIII and XXXV

Policy Statement for Direct Final Rulemaking

AGENCY: Rural Housing Service, USDA.

ACTION: Policy statement.

SUMMARY: The Rural Housing Service (RHS) is implementing a new rulemaking procedure to expedite making noncontroversial changes to its regulations. Rules that RHS determines to be noncontroversial and unlikely to result in adverse comments will be published as “direct final” rules. “Adverse comments” are those comments that suggest a rule should not be adopted or that a change should be made to the rule. Each direct final rule will advise the public that no adverse comments are anticipated and, that unless written adverse comments or written notice of intent to submit adverse comments are received within 60 days from the date the direct final rule is published in the Federal Register, the rule will be effective 75 days from the date the direct final rule is published in the Federal Register.

DATES: Effective March 27, 2003.

FOR FURTHER INFORMATION CONTACT: Dan Riggs, Community Programs, Direct Loan and Grant Processing Division, Rural Housing Service, U.S. Department of Agriculture, STOP 0787, 1400 Independence Ave. SW., Washington, DC 20250-0787. Telephone: 202-720-1490, FAX: 202-690-0471, E-mail: Dan.Riggs@USDA.gov.

SUPPLEMENTARY INFORMATION: RHS is committed to improving the efficiency of its regulatory process. In pursuit of this goal, we plan to employ the rulemaking procedure known as direct final rulemaking to promulgate some RHS rules.

The Direct Final Rule Process

Rules that RHS determines to be noncontroversial and unlikely to result in adverse comments will be published in the Federal Register as direct final rules. Each direct final rule will advise the public that no adverse comments are anticipated and, that unless any adverse comments are received within 60 days, the direct final rule will be effective 75 days from the date the direct final rule is published in the Federal Register.

Adverse comments are comments that suggest the rule should not be adopted or that a change should be made to the rule. A comment expressing support for the rule, as published, will not be considered adverse. Further, a comment suggesting that requirements in the rule should, or should not, be employed by RHS in other programs or situations outside the scope of the direct final rule will not be considered adverse.

If RHS receives written adverse comments or written notice of intent to submit adverse comments within 60 days of the publication of a direct final rule, a document withdrawing the direct final rule prior to its effective date will be published in the Federal Register stating that adverse comments were received.

In accordance with rulemaking provisions of the Administrative Procedure Act (5 U.S.C. 553), the direct final rulemaking procedure gives the public general notice of RHS's intent to adopt a new rule and gives interested persons an opportunity to participate in the rulemaking process through submission of comments for consideration by RHS. The major feature of the direct final rulemaking process is that if RHS receives no written adverse comments and no written notice of intent to submit adverse comments within the comment period specified, the RHS will publish a document in the Federal Register stating that no adverse comments were received regarding the direct final rule and confirming that the direct final rule is effective on the date specified in the direct final rule.

Determining When To Use Direct Final Rulemaking

Not all RHS rules are good candidates for the direct final rulemaking. RHS intends to use the direct final rulemaking procedure only for rules that we consider to be noncontroversial and unlikely to generate adverse comments. The decision whether to use the direct final rulemaking process for a particular action will be based on RHS experience with similar actions.

Dated: March 19, 2003.
Arthur A. Garcia,
Administrator, Rural Housing Service.

[FR Doc. 03-7238 Filed 3-26-03; 8:45 am]

BILLING CODE 3410-XV-P